DEPARTMENT OF JUSTICE

Office of Justice Programs

[OJP (OJJDP) Docket No. 1787]

Meeting of the Federal Advisory Committee on Juvenile Justice

AGENCY: Office of Juvenile Justice and Delinquency Prevention, Department of Justice.

ACTION: Notice of meeting.

SUMMARY: The Office of Juvenile Justice and Delinquency Prevention has scheduled a meeting of the Federal Advisory Committee on Juvenile Justice (FACJJ).

DATES: Thursday, January 14th, 2021 at 1:00 p.m.-3:00 p.m. ET.

ADDRESSES: This meeting will be a virtual meeting. To register for the meeting, please visit the Registration website. The registration link will also be posted on the FACJJ website, www.facjj.ojp.gov.

FOR FURTHER INFORMATION CONTACT: Visit the website for the FACJJ at www.facjj.ojp.gov or contact Keisha Kersey, Designated Federal Official (DFO), OJJDP, OJJDP, by telephone (202) 532-0124, email at keisha.kersey@ojp.usdoj.gov; or Maegen Barnes, Program Manager/Federal Contractor, by telephone (732) 948-8862, email at Maegen.barnes@bixal.com. Please note that the above phone numbers are not toll free.

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.ojp.gov .

FACJJ meeting agendas are available on www.facjj.ojp.gov. Agendas will generally include: (a) Opening remarks and introductions; (b) Presentations and discussion; and (c) member announcements.

Should issues arise with online registration, or to register by email, the public should contact Maegen Barnes, Program Manager/Federal Contractor (see above for contact information). If submitting registrations via email, attendees should include all of the following: Name, Title, Organization/Affiliation, Full Address, Phone Number, Fax and Email. The meeting will also be available to join online via the WebEx platform, to register please visit, Registration website. Registration for this is also found online at www.facjj.ojp.gov.

Interested parties may submit written comments and questions in advance for the FACJJ to Keisha Kersey (DFO) at the contact information above. All comments and questions should be submitted no later than 5:00 p.m. ET on Monday, January 4th, 2021.

The FACJJ will limit public statements if they are found to be duplicative. Written questions submitted by the public while in attendance will also be considered by the FACJJ.

Keisha Kersey,
Designated Federal Official, Office of Juvenile Justice and Delinquency Prevention.

[FR Doc. 2020-28096 Filed 12-18-20; 8:45 am]

BILLING CODE 4410-18-P